DEPARTMENT OF TRANSPORTATION

Coast Guard

[USCG-2000-6847]

Collection of Information by Agency Under Review by Office of Management and Budget

AGENCY: Coast Guard, DOT.

ACTION: Request for comments.

SUMMARY: In compliance with the Paperwork Reduction Act of 1995, the Coast Guard intends to request the approval of the Office of Management and Budget (OMB) for the renewal of Information Collection Requests (ICRs). These ICRs comprise: 1. Request for Designation and Exemption of Oceanographic Research Vessel, 2. Oil Record Book for Ships, and 3. Vessel Identification System. Before submitting the ICRs to OMB, the Coast Guard is asking for comments on the collections described below.

DATES: Comments must reach the Coast Guard on or before April 11, 2000.

ADDRESSES: You may mail comments to the Docket Management System (DMS) [USCG-2000-6847], U.S. Department of Transportation (DOT), room PL-401, 400 Seventh Street SW., Washington, DC 20590-0001, or deliver them to room PL-401, located on the Plaza Level of the Nassif Building at the same address between 9 a.m. and 5 p.m., Monday through Friday, except Federal holidays. The telephone number is 202-366-9329.

The Docket Management Facility maintains the public docket for this Request. Comments will become part of this docket and will be available for inspection or copying at room PL-401, located on the Plaza Level of the Nassif Building at the same address, between 9 a.m. and 5 p.m., Monday through Friday, except Federal holidays. You may also access this docket on the Internet at http://dms.dot.gov.

Copies of the complete ICRs are available through this docket on the Internet at http://dms.dot.gov and also from Commandant (G-SII-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on this document. With questions on the docket, ask Dorothy Walker, Chief, Documentary Services Division, U.S. Department of Transportation, 202-366-9330.

Request for Comments

The Coast Guard encourages interested persons to submit written comments. Persons submitting comments should include their names and addresses, identify this document [USCG-2000-6847] and the specific ICR to which each comment applies, and give the reason(s) for each comment. Please submit all comments and attachments in an unbound format no larger than 8½ by 11 inches, suitable for copying and electronic filing. Persons wanting acknowledgment of receipt of comments should enclose stamped, self-addressed postcards or envelopes.

Information Collection Requests

1. Title: Request for Designation and Exemption of Oceanographic Research Vessels.

OMB Control Number: 2115-0053.

Summary: 46 U.S.C. 2113(2) authorizes the Secretary of Transportation to exempt Oceanographic Research Vessels, by regulation, from provisions of Subtitle II of Title 46, Shipping, of the United States Code, concerning maritime safety and seamen's welfare.

Need: This information is necessary to ensure that a vessel qualifies for the designation.

Respondents: Owner or operator of vessel.

Frequency: On occasion.

Burden: The estimated burden is 29 hours annually.

2. Title: Oil Record Book for Ships.

OMB Control Number: 2115-0025.

Summary: The Act to Prevent Pollution from Ships (APPS) and the International Convention for Prevention of Pollution from Ships, 1973, as modified by the 1978 Protocol relating thereto (MARPOL 73/78), the Act and the Convention require that information about oil (cargo or fuel) be entered into an Oil Record Book (CG-4602A). The requirement appears at 33 CFR 151.25.

Need: This information serves to verify sightings of actual violations of the APPS to determine the level of compliance with MARPOL 73/78 and as a means of reinforcing the discharge provisions.

Respondents: Operators of vessels.

Frequency: On occasion.

Burden: The estimated burden is 35,828 hours annually.

3. Title: Vessel Identification System.

OMB Control Number: 2115-0607.

Summary: The Secretary of Transportation must establish a nationwide vessel-identification system (VIS) and centralize certain vessel-documentation functions. VIS provides participating States and territories with access to their own data on numbered vessels. Participation in VIS is voluntary.

Need: 46 U.S.C. 12501 mandates the establishment of a VIS. 33 CFR part 187 prescribe the requirements of VIS.

Respondents: Governments of States and territories.

Frequency: Daily.

Burden: The estimated burden is 5,697 hours annually.

Dated: February 4, 2000.
G.N. Naccara,
Rear Admiral, U.S. Coast Guard, Director of Information and Technology.

[FR Doc. 00-3155 Filed 2-10-00; 8:45 am]

BILLING CODE 4910-15-P